DEPARTMENT OF COMMERCE

National Oceanic and Atmospheric Administration

50 CFR Part 660

[I.D. 091800E]

RIN 0648-AO41

Fisheries off West Coast States and in the Western Pacific; Pacific Coast Groundfish Fishery; Amendment 13

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 13 to the Pacific Coast Groundfish Fishery Management Plan (FMP) for Secretarial review. Amendment 13 is intended to make the FMP consistent with Magnuson-Stevens Fishery Conservation and Management Act (Magnuson-Stevens Act) bycatch provisions,to increase flexibility in the annual management measures framework to manage for protection of overfished and depleted stocks, and to remove outdated and unused limited entry permit endorsements.

DATES: Comments on Amendment 13 must be received on or before November 21, 2000.

ADDRESSES: Comments on Amendment 13 or supporting documents should be sent to Donna Darm, Acting Administrator, Northwest Region, NMFS, Sand Point Way NE., BIN C15700, Seattle, WA 98115-0070; or to Rebecca Lent, Administrator, Southwest Region, NMFS, 501 West Ocean Boulevard, Suite 4200, Long Beach, CA 90802-4213.

Copies of Amendment 13 and the Environmental Assessment/ Regulatory Impact Review (RIR) are available from Donald McIsaac, Executive Director, Pacific Fishery Management Council, 2130 SW Fifth Ave., Suite 224, Portland, OR 97201.

FOR FURTHER INFORMATION CONTACT: Yvonne deReynier at 206-526-6140, Svein Fougner at 562-980-4000; or the Pacific Fishery Management Council at 503-326-6352.

SUPPLEMENTARY INFORMATION: The Magnuson-Stevens Act requires that each regional fishery management council submit any new FMP or plan amendment it prepares to NMFS for review and approval, disapproval, or partial approval. The Magnuson-Stevens Act also requires that NMFS, upon receiving an FMP or amendment, immediately publish a notification in the Federal Register that the FMP or amendment is available for public review and comment. NMFS will consider the public comments received during the comment period described here in determining whether to approve the FMP or amendment.

Amendment 13 would address the Magnuson-Stevens Act National Standard 9 bycatch provisions by: revising the FMP definition of the term “bycatch”, changing the standardized reporting methodologies, and recommending new bycatch reduction measures. Amendment 13 would establish an increased utilization program in the at-sea whiting fisheries. This program would allow at-sea whiting processing vessels that carry more than one observer to retain all of their non-whiting groundfish bycatch for processing into fish meal or for donating to food banks. Measures that would be authorized and may be considered for future Council development include: shorter fishing seasons and higher cumulative landing limits; permit stacking in the limited entry fleet; gear modification requirements; catch allocation to, or gear flexibility for, gear types with lower bycatch rates; improvements in the species-to-species landings limit ratio; and time/area closures to protect incidentally caught species.

In addition to addressing bycatch, Amendment 13 would increase flexibility in the groundfish annual specifications and management measures process to allow the Council to more easily develop measures that protect overfished and depleted species. This increased flexibility would include: achieving the overfished species rebuilding plans, reducing bycatch, preventing overfishing, allowing the harvest of healthy stocks as much as possible while protecting and rebuilding overfished and depleted stocks, and equitably distributing the burdens of rebuilding among the various fishing sectors.

Finally, Amendment 13 would amend the limited entry permit provisions to remove unused and outdated limited entry permit endorsements. This last revision is essentially a housekeeping measure to address changes in the character of the groundfish fisheries, particularly the fully utilized status of all FMP-managed Pacific coast groundfish stocks.

Public comments on Amendment 13 must be received by November 21, 2000 to be considered by NMFS in the decision whether to approve Amendment 13. A proposed rule to implement Amendment 13 has been submitted for Secretarial review and approval. NMFS expects to publish and request public comment on the proposed regulations to implement Amendment 13 in the near future.

Authority: 16 U.S.C. 1801 et seq.

Dated: September 19, 2000.
Bruce C. Morehead,
Acting Director, Office of Sustainable Fisheries, National Marine Fisheries Service.

[FR Doc. 00-24458 Filed 9-21-00; 8:45 am]

BILLING CODE 3510-22-S